DEPARTMENT OF THE INTERIOR

Minerals Management Service

Environmental Assessment (EA), Liberty Development and Production Plan (DPP) Ultra Extended Reach Drilling From Endicott Satellite Drilling Island (SDI)—MMS 2007-054

AGENCY: Minerals Management Service (MMS), Interior.

ACTION: Notice of Availability of an Environmental Assessment and Finding of No Significant Impact.

SUMMARY: The Minerals Management Service (MMS) is in receipt of a Development and Production Plan (DPP) from British Petroleum (BP) that proposes an ultra extended reach drilling project in the Beaufort Sea Outer Continental Shelf (OCS) scheduled for construction in 2009. In accordance with the National Environmental Policy Act (NEPA), MMS has prepared an environmental assessment (EA) that concludes that with required mitigation no significant adverse effects (40 CFR 1508.27) on the quality of the human environment would occur. Therefore MMS has issued a Finding of No Significant Impact (FONSI). In accordance with 40 CFR 1501.4(e)(2)(i), MMS is making the FONSI available for public review for 30 days before making a final determination whether to prepare an EIS and before taking final action on the proposed Liberty DPP.

FOR FURTHER INFORMATION CONTACT: Minerals Management Service, Alaska OCS Region, 3801 Centerpoint Drive, #500, Anchorage, Alaska 99503-5820, or Jeff Walker at (907) 334-5300.

EA Availability: To obtain a copy of the EA and FONSI, you may contact the Minerals Management Service, Alaska OCS Region, Attention: Public Information, 3801 Centerpoint Drive, #500, Anchorage, Alaska 99503-5820, telephone 1-800-764-2627. You may also view the EA and FONSI on the MMS Web site at http://www.mms.gov/alaska.

Dated: November 5, 2007.
John T. Goll,
Regional Director, Alaska OCS Region.

[FR Doc. E7-23325 Filed 11-30-07; 8:45 am]

BILLING CODE 4310-MR-P